DEPARTMENT OF COMMERCE

International Trade Administration

[A-570-010, A-583-853]

Certain Crystalline Silicon Photovoltaic Products From the People's Republic of China and Taiwan: Final Results of the Expedited Second Sunset Reviews of the Antidumping Duty Orders

AGENCY: Enforcement and Compliance, International Trade Administration, Department of Commerce.

SUMMARY: The U.S. Department of Commerce (Commerce) finds that revocation of the antidumping duty (AD) orders on certain crystalline silicon photovoltaic products (solar products) from the People's Republic of China (China) and Taiwan would be likely to lead to continuation or recurrence of dumping, at the levels indicated in the “Final Results of Sunset Reviews” section of this notice.

DATES: Applicable February 10, 2026.

FOR FURTHER INFORMATION CONTACT: David de Falco, Trade Agreements Policy and Negotiations, Enforcement and Compliance, International Trade Administration, U.S. Department of Commerce, 1401 Constitution Avenue NW, Washington, DC 20230; telephone: (202) 482-2178.

SUPPLEMENTARY INFORMATION:

Background

On February 18, 2015, Commerce published the Orders in the Federal Register.¹ On August 1, 2025, Commerce published the notice of initiation of these second sunset reviews of the Orders, pursuant to section 751(c) of the Tarriff Act of 1930, as amended (the Act).²

¹ See Certain Crystalline Silicon Photovoltaic Products from the People's Republic of China: Antidumping Duty Order; and Amended Final Affirmative Countervailing Duty Determination and Countervailing Duty Order, 80 FR 8592 (February 18, 2015) (China Order) and Certain Crystalline Silicon Photovoltaic Products from Taiwan: Antidumping Duty Order, 80 FR 8596 (February 18, 2015) (Taiwan Order) (collectively, Orders).

² See Initiation of Five-Year (Sunset) Reviews, 90 FR 36139 (August 1, 2025).

On August 15, 2025, Commerce received timely and complete notices of intent to participate in the sunset reviews from the domestic interested party ³ within the deadline specified in the 19 CFR 351.218(d)(1)(i).⁴ The domestic interested party claimed the interested party status within the meaning of section 771(9)(E) ⁵ of the Act as a coalition of U.S. producers of the domestic like product, the majority of whom produce the domestic like product.⁶ On August 22, 2025, Commerce notified the U.S. International Trade Commission (ITC) that it had received a notice of intent to participate from the domestic interested party.⁷

³ The domestic interested party is the American Alliance for Solar Manufacturing, whose individual members are First Solar, Inc., Hanwha Q CELLS USA, Inc., Heliene USA Inc., Suniva, Inc., and Mission Solar Energy LLC.

⁴ See Domestic Interested Party's Letter, “Crystalline Silicon Photovoltaic Products from the People's Republic of China: Notice of Intent to Participate in Sunset Review,” dated August 15, 2025 and “Crystalline Silicon Photovoltaic Products from Taiwan: Notice of Intent to Participate in Sunset Review,” dated August 15, 2025.

⁵ The domestic interested party claimed 771(9)(F) in their notice of intent to participate but described 771(9)(E). We are treating them as 771(9)(E) as a coalition of producers of the domestic like product.

⁶ Id. at 2.

⁷ See Commerce's Letter, “Sunset Reviews Initiated on August 1, 2025,” dated August 22, 2025.

On September 2, 2025, pursuant to 19 CFR 351.218(d)(3)(i), the domestic interested party filed a timely and adequate substantive response.⁸ Commerce did not receive a substantive response from any respondent interested party. On September 23, 2025, Commerce notified the ITC that it did not receive substantive response from any respondent interested parties.⁹ As a result, pursuant to section 751(c)(3)(B) of the Act and 19 CFR 351.218(e)(1)(ii)(C)(2), Commerce is conducting an expedited (120-day) sunset review of the Orders.

⁸ See Domestic Interested Party's Letter, “Crystalline Silicon Photovoltaic Products from the People's Republic of China: Substantive Response to Notice of Initiation of Sunset Review,” dated September 2, 2025; see also Domestic Interested Party's Letter “Crystalline Silicon Photovoltaic Products from Taiwan: Substantive Response to Notice of Initiation of Sunset Review,” dated September 2, 2025.

⁹ See Commerce's Letter, “Sunset Reviews Initiated on August 1, 2025,” dated September 23, 2025.

Due to the lapse in appropriations and Federal Government shutdown, on November 14, 2025, Commerce tolled all deadlines in administrative proceedings by 47 days.¹⁰ Additionally, due to a backlog of documents that were electronically filed via Enforcement and Compliance's Antidumping and Countervailing Duty Centralized Electronic Service System (ACCESS) during the Federal Government shutdown, on November 24, 2025, Commerce tolled all deadlines in administrative proceedings by an additional 21 days.¹¹ Accordingly, the deadline for these final results is now February 5, 2026.

¹⁰ See Memorandum, “Deadlines Affected by the Shutdown of the Federal Government,” dated November 14, 2025.

¹¹ See Memorandum, “Tolling of all Case Deadlines,” dated November 24, 2025.

Scope of the Orders

The product covered by these Orders is solar products from China and Taiwan. For the full description of the scope of the Orders, see the Issues and Decisions Memorandum.¹²

¹² See Memorandum, “Issues and Decision Memorandum for the Final Results of the Expedited Second Sunset Reviews of the Antidumping Duty Orders on Certain Crystalline Silicon Photovoltaic Products from the People's Republic of China and Taiwan,” dated concurrently with, and hereby adopted by, this notice.

Analysis of Comments Received

A complete discussion of all issues raised in this sunset review, including the likelihood of continuation or recurrence of dumping in the event of revocation of the Orders and the magnitude of the margins likely to prevail if the Orders were to be revoked, is provided in the Issues and Decision Memorandum.¹³ A list of the topics discussed in the Issues and Decision Memorandum is attached in the appendix to this notice. The Issues and Decision Memorandum is a public document and is on file electronically via ACCESS. ACCESS is available to registered users at https://access.trade.gov. In addition, a complete version of the Issues and Decision Memorandum can be directly accessed at https://access.trade.gov/public/FRNoticesListLayout.aspx.

¹³ Id.

Final Results of Sunset Reviews

Pursuant to sections 751(c)(1), and 752(c)(1) and (3) of the Act, Commerce determines that revocation of the Orders would be likely to lead to continuation or recurrence of dumping, and that the magnitude of the dumping margins likely to prevail would be weighted-average dumping margins up to 165.04 percent for China and 27.55 percent for Taiwan.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: February 5, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2026-02634 Filed 2-9-26; 8:45 am]

BILLING CODE 3510-DS-P